FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Recordkeeping and Disclosure Requirements Associated with the Consumer Financial Protection Bureau's (CFPB) Regulation M (FR M; OMB No. 7100-0202).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR M.

Final Approval Under OMB Delegated Authority of the Extension for Three Years, Without Revision, of the Following Information Collection

Collection title: Recordkeeping and Disclosure Requirements Associated with the CFPB's Regulation M.

Collection identifier: FR M.

OMB control number: 7100-0202.

General description of collection: The Consumer Leasing Act (CLA) and Regulation M require lessors uniformly to disclose to consumers the costs, liabilities, and terms of consumer lease transactions. The Dodd-Frank Wall Street Reform and Consumer Protection Act transferred rulemaking authority for the CLA to the Consumer Financial Protection Bureau (CFPB) except for certain motor vehicle dealers that are excluded from the CFPB's authority, which remain subject to the Board's Regulation M. The FR M is the Board's information collection associated with Regulation M. These disclosures are provided to consumers before they enter into lease transactions and in advertisements that state the availability of consumer leases on particular terms. The disclosures are intended to provide consumers with meaningful disclosures about the costs and terms of leases for personal property and enable consumers to compare the terms for a particular lease with those for other leases and, when appropriate, to compare lease terms with those for credit transactions.

Frequency: Event generated.

Respondents: The FR M panel comprises state member banks with assets of $10 billion or less that are not affiliated with an insured depository institution with assets over $10 billion (irrespective of the consolidated assets of any holding company); non depository affiliates of such state member banks; and non depository affiliates of bank holding companies that are not affiliated with an insured depository institution with assets over $10 billion. Notwithstanding the foregoing, the CFPB, and not the Board, has supervisory authority for Regulation M with respect to automobile leasing over non-banks defined as “larger participants” in the automobile finance market pursuant to 12 U.S.C. 5514 (implemented by 12 CFR 1090.108).

Total estimated number of respondents: 3.

Total estimated annual burden hours: 17.

Current actions: On March 7, 2024, the Board published a notice in the Federal Register (89 FR 16567) requesting public comment for 60 days on the extension, without revision, of the FR M. The comment period for this notice expired on May 6, 2024. The Board did not receive any comments.

Board of Governors of the Federal Reserve System, July 23, 2024.
Michele Taylor Fennell,
Deputy Associate Secretary of the Board.

[FR Doc. 2024-16676 Filed 7-29-24; 8:45 am]

BILLING CODE 6210-01-P